DEPARTMENT OF EDUCATION

Notice of Proposed Information Collection Requests

AGENCY: Department of Education.

ACTION: Correction notice.

SUMMARY: On November 1, 2001, a 60-day notice inviting comment from the public was inadvertently published for the “High School Equivalency Program (HEP) and College Assistance Migrant Program (CAMP)” in the Federal Register (Volume 66, Number 212) dated November 1, 2001. This information collection is being submitted under the Streamlined Clearance Process for Discretionary Grant Information Collection (1890-0001). Therefore, this notice amends the public comment period for this program to 30 days. The Leader, Regulatory Information Management, Office of the Chief Information Officer, hereby issues a correction notice on the submission for OMB review as required by the Paperwork Reduction Act of 1995. Since an incorrect public notice was published on November 1, the Department of Education is correcting the end date to the 30 days as required for discretionary grants instead of 60 days.

DATES: Interested persons are invited to submit comments on or before December 17, 2001.

ADDRESSES: Written comments should be addressed to the Office of Information and Regulatory Affairs, Attention: Karen Lee, Desk Officer, Department of Education, Office of Management and Budget, 725 17th Street, N.W., Room 10235, New Executive Office Building, Washington, DC 20503 or should be electronically mailed to the Internet address Karen_F._Lee@OMB.EOP.GOV. Requests for copies of the proposed information collection request may be accessed from http://edicsweb.ed.gov, or should be addressed to Vivian Reese, Department of Education, 400 Maryland Avenue, SW, Room 5624, Regional Office Building 3, Washington, DC 20202-4651 or should be electronically mailed to the Internet address OCIO_IMB_Issues@ed.gov, or should be faxed to 202-708-9346.

FOR FURTHER INFORMATION CONTACT: Kathy Axt at (540) 776-7742.

Dated: November 9, 2001.
John Tressler,
Leader, Regulatory Information Management Group, Office of the Chief Information Officer.

[FR Doc. 01-28686 Filed 11-15-01; 8:45 am]

BILLING CODE 4000-01-P